DEPARTMENT OF AGRICULTURE

Commodity Credit Corporation

Request for Extension of a Currently Approved Information Collection—National Nonprofit Humanitarian Program

AGENCY: Commodity Credit Corporation.

ACTION: Notice and request for comments.

SUMMARY: In accordance with the Paperwork Reduction Act of 1995, this notice announces the intention of the Commodity Credit Corporation (CCC) to request extension of a currently approved information collection. The collection is used to conduct a National Nonprofit Humanitarian Program 501(c)(3) for purposes of expanding current disposition options for surplus nonfat dry milk (NDM) to help feed the hungry in the United States. This action will expedite the sale of NDM to nonprofit organizations and relieve regulatory burdens imposed upon current domestic feeding programs.

DATES: Comments on this notice must be received on or before September 30, 2003, to be assured consideration.

FOR FURTHER INFORMATION CONTACT: Beatrice Dove, Agricultural Marketing Specialist, Procurement and Donations Division, Commodity Operations Branch, Farm Service Agency, USDA, Stop 0551, 1400 Independence Avenue SW., Washington, DC 20520; telephone (202) 401-4652; e-mail Beatrice.Dove@usda.gov.

SUPPLEMENTARY INFORMATION: Title: National Nonprofit Humanitarian Program.

OMB Control Number: 0560-0227.

Date of Expiration: September 30, 2003.

Abstract: The Commodity Credit Corporation (CCC) has acquired approximately 1.2 billion pounds of nonfat dry milk (NDM) through its Milk Price Support Program. Limited shelf life for this commodity has prompted USDA's Farm Service Agency (FSA) to propose implementation of a 501(c)(3) program further utilizing CCC-owned NDM by selling the product to religious and non-religious nonprofit organizations in the United States. Under this proposal, CCC will deliver a minimum of four truckload quantities U.S. Extra Grade NDM or U.S. Extra Grade instantized fortified nonfat dry milk (INDM) to authorized recipients for the nominal fee of $20 per truckload. A minimum of two truckloads must be received per delivery period with each truckload consisting of one package size and product type (NDM or INDM). Recipients must demonstrate capability to store and handle the product in full compliance with applicable State and local health and food safety requirements to assure product wholesomeness. Recipients shall distribute the NDM or INDM in a timely manner for human consumption in the United States and shall not export, resell, exchange, or barter the product. Nonprofit organizations currently receiving NDM as a donated product from the U.S. Department of Agriculture, Food and Nutrition Service (FNS), under the Emergency Food Assistance Program (TEFAP) may also receive NDM under this program.

Estimate of Burden: Public reporting burden for this information collection is estimated to average 30 minutes per response.

Respondents: Nonprofit organizations.

Estimated Number of Respondents: 220.

Estimated Number of Annual Responses per Respondent: 1.

Estimated Total Annual Burden on Respondents: 321 hours.

Proposed topics for comments include: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology. Comments should be sent to the Desk Officer for Agriculture, Office of Information and Regulatory Affairs, Office of Management and Budget, Washington, DC 20503 and to Beatrice Dove, Agricultural Marketing Specialist, Procurement and Donations Division, Commodity Operations Branch, Farm Service Agency, USDA, Stop 0551, 1400 Independence Avenue SW., Washington, DC 20250; telephone (202) 401-4652.

All responses to this notice will be summarized and included in the request for OMB approval. All comments will become a matter of public record.

Signed at Washington, DC, on July 24, 2003.
Verle E. Lanier,
Acting Executive Vice President, Commodity Credit Corporation.

[FR Doc. 03-19551 Filed 7-31-03; 8:45 am]

BILLING CODE 3410-05-P